FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 2, 2001.

A. Federal Reserve Bank of Atlanta (Cynthia C. Goodwin, Vice President) 104 Marietta Street, N.W., Atlanta, Georgia 30303-2713:

1. William Carl David; Stephen Paul David; Stephen Paul David, Jr.; William Robert David; Lauren Riche’ David; Jeffrey Thomas David; and Joseph Jefferson David, all of New Roads, Louisiana, and Robert Jefferson David, New Orleans, Louisiana; to retain voting shares of Peoples Bancshares of Pointe Coupee Parish, Inc., New Roads, Louisiana, and thereby indirectly retain voting shares of Peoples Bank & Trust Company, New Roads, Louisiana.

2. Bradley M. Bolton, Red Bay, Alabama, as trustee; to retain voting powers of The Weatherford Foundation of Red Bay, Inc., Red Bay, Alabama, and thereby indirectly retain voting shares of Independent Bancshares, Inc., and Community Spirit Bank, both of Red Bay, Alabama.

Board of Governors of the Federal Reserve System, March 13, 2001.
Robert deV. Frierson
Associate Secretary of the Board.

[FR Doc. 01-6672 Filed 3-16-01; 8:45 am]

BILLING CODE 6210-01-S